DEPARTMENT OF HOMELAND SECURITY

Border and Transportation Security; Notice to Aliens Included in the United States Visitor and Immigrant Status Indicator Technology System (US-VISIT)

AGENCY: Border and Transportation Security Directorate, DHS.

ACTION: Notice; technical correction.

SUMMARY: On August 20, 2004, the Department of Homeland Security (DHS) published a Notice in the Federal Register at 69 FR 51695 adding certain ports to, and deleting certain ports from, inclusion in the US-VISIT program. In this Notice, the Jacksonville sea port in Jacksonville, Florida was inadvertently deleted. This technical correction amends the list of ports that was published on August 20, 2004 to include the Jacksonville sea port.

EFFECTIVE DATE: This Notice is effective August 26, 2004.

FOR FURTHER INFORMATION CONTACT: Michael Hardin, Program Analyst, US-VISIT, Border and Transportation Security, Department of Homeland Security, 425 I Street, NW., Washington, DC 20536, telephone (202) 298-5200.

SUPPLEMENTARY INFORMATION: On January 5, 2004, DHS published a Notice in the Federal Register at 69 FR 482 designating 115 airports and 14 sea ports for inclusion in the US-VISIT program. One of these 14 sea ports was the Jacksonville sea port in Jacksonville, Florida. On August 20, 2004, DHS published a Notice in the Federal Register at 69 FR 51695 adding certain ports to, and deleting certain ports from, inclusion in the US-VISIT program. In this Notice, the Jacksonville sea port in Jacksonville, Florida was inadvertently deleted.

What Does This Notice Do?

This Notice amends the Notice published on August 20, 2004 to include the Jacksonville sea port on the list of ports of entry designated to collect biometric data from certain aliens upon arrival in the United States. No other action is taken in this Notice.

Notice of Requirements for Biometric Collection From Aliens

DHS hereby designates the following ports of entry for inclusion in US-VISIT for the collection of information at the time of alien arrival pursuant to 8 CFR 235.1(d)(1):

Sea ports: Jacksonville, Florida.

Dated: August 23, 2004.
Tom Ridge,
Secretary of Homeland Security.

[FR Doc. 04-19553 Filed 8-25-04; 8:45 am]

BILLING CODE 4410-10-P